Title 3—

The President

Proclamation 8223 of February 29, 2008

Irish-American Heritage Month, 2008

By the President of the United States of America

A Proclamation

Since the earliest days of our Republic, Irish Americans have enriched our culture with their faith, values, and hard work. During the month of March, we celebrate the contributions of Americans who trace their ancestry back to Ireland's shores.

Many of the sons and daughters of Erin came to America fleeing famine and poverty. They came with dreams of opportunity, and they helped to build our democracy and advance the cause of liberty. Irish Americans in all walks of life have made lasting contributions to our Nation, and we honor the service of Irish Americans in America's Armed Forces. Throughout our history, those claiming Irish ancestry have helped shape and strengthen America, including as signers of the Declaration of Independence and as Presidents of the United States.

This month, we celebrate the patriotic and proud people who originated from the Emerald Isle and who have played a vital role in the story of this Nation of immigrants.

NOW, THEREFORE, I, GEORGE W. BUSH, President of the United States of America, by virtue of the authority vested in me by the Constitution and laws of the United States, do hereby proclaim March 2008 as Irish-American Heritage Month. I call upon all Americans to observe this month by celebrating the contributions of Irish Americans to our Nation.

IN WITNESS WHEREOF, I have hereunto set my hand this twenty-ninth day of February, in the year of our Lord two thousand eight, and of the Independence of the United States of America the two hundred and thirty-second.

[FR Doc. 08-976

Filed 3-4-08; 8:55 am]

Billing code 3195-01-P